DEPARTMENT OF LABOR

Employment and Training Administration

[TA-W-52,326]

Bojud Knitting Mills, Inc., Amsterdam, NY; Notice of Negative Determination Regarding Application for Reconsideration

By application of September 8, 2003, a petitioner requested administrative reconsideration of the Department's negative determination regarding eligibility to apply for Trade Adjustment Assistance (TAA), applicable to workers and former workers of the subject firm. The denial notice was signed on August 13, 2003, and published in the Federal Register on September 2, 2003 (68 FR 52228).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The petition for the workers of Bojud Knitting Mills, Inc., Amsterdam, New York was denied because criterion (1) was not met. Employment at the subject plant increased from 2001 to 2002, and in January to July of 2003 relative to the same period of 2002.

The petitioner implies that the petitioning worker group met the criterion concerning an immediate threat of layoffs, as workers were laid off soon after the negative determination; specifically, he states that workers were laid off in the last week of August and the first week of September.

A company official was contacted in regard to this issue and indicated that employment increased in January through August of 2003 relative to the same period in 2002, but employment levels did decline in September of 2003. The official further clarified that future “employment declines are very hard to predict as the volume of employees is based on customer orders.”

Further, the official confirmed that which was discovered in the initial investigation, which was that the company did not shift production, nor did it import like or directly competitive products.

Finally, results of a survey of major declining customers conducted at the time of the initial investigation established that customer imports did not contribute importantly to layoffs at the subject firm.

Conclusion

After review of the application and investigative findings, I conclude that there has been no error or misinterpretation of the law or of the facts which would justify reconsideration of the Department of Labor's prior decision. Accordingly, the application is denied.

Signed at Washington, DC, this 23rd day of December, 2003.
Elliott S. Kushner,
Certifying Officer, Division of Trade Adjustment Assistance.

[FR Doc. 04-1436 Filed 1-22-04; 8:45 am]

BILLING CODE 4510-30-P